DEPARTMENT OF LABOR

Employment and Training Administration

Comment Request for Information Collection on Administrative Procedures Including Form MA 8-7, Extension Without Revisions

AGENCY: Employment and Training Administration (ETA), Labor.

ACTION: Notice.

SUMMARY: The Department of Labor (Department), as part of its continuing effort to reduce paperwork and respondent burden, conducts a preclearance consultation program to provide the public and Federal agencies with an opportunity to comment on proposed and/or continuing collections of information in accordance with the Paperwork Reduction Act of 1995 [44 U.S.C. 3506(c)(2)(A)]. This program helps ensure that requested data can be provided in the desired format, reporting burden (time and financial resources) is minimized, collection instruments are clearly understood, and the impact of collection requirements on respondents can be properly assessed.

Currently, ETA is soliciting comments concerning the collection of data consistent with 20 CFR 601, including Form MA 8-7, which expires May 31, 2016.

DATES: Submit written comments to the office listed in the addresses section below on or before November 27, 2015.

ADDRESSES: Send written comments to Robert Johnston, Office of Unemployment Insurance, Room S-4524, Employment and Training Administration, U.S. Department of Labor, 200 Constitution Avenue NW., Washington, DC 20210. Telephone number: 202-693-3005 (this is not a toll-free number). Individuals with hearing or speech impairments may access the telephone number above via TTY by calling the toll-free Federal Information Relay Service at 1-877-889-5627 (TTY/TDD). Email: Johnston.Robert@dol.gov. To obtain a copy of the proposed information collection request (ICR), please contact the person listed above.

SUPPLEMENTARY INFORMATION:

I. Background

Department of Labor, Employment and Training Administration regulations, 20 CFR 601, Administrative Procedures, contains collection of information requirements at sections 601.2 and 601.3. Section 601.2 requires states to submit copies of their unemployment compensation laws for approval by the Secretary of Labor (Secretary) so that the Secretary may determine the status of state laws and plans of operation. Section 601.3 requires states to “submit all relevant state materials such as statutes, executive and administrative orders, legal opinions, rules, regulations, interpretations, court decisions, etc.” These materials are used by the Secretary to determine whether the state law contains provisions required by section 3304(a) of the Internal Revenue Code of 1986. Grants of funds are made to states for the administration of their employment security laws if their unemployment compensation laws and their plans of operation for public employment offices meet required conditions of Federal laws. The information transmitted by Form MA 8-7 is used by the Secretary to make findings (as specified in the above cited Federal laws) required for certification to the Secretary of the Treasury for payment to states or for certification of the state law for purposes of additional tax credit. If this information is not available, the Secretary cannot make such certifications. To facilitate transmittal of required material, the Department prescribes the use of Form MA 8-7, Transmittal for Unemployment Insurance Materials. This simple check off form is used by the states to identify material being transmitted to the National Office and allows the material to be routed to appropriate staff for prompt action.

II. Review Focus

The Department is particularly interested in comments which:

• Evaluate whether the proposed collection of information is necessary for the proper performance of the functions of the agency, including whether the information will have practical utility;

• evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques or other forms of information technology, e.g., permitting electronic submissions of responses.

III. Current Actions

Type of Review: Extension without changes.

Title: Transmittal for Unemployment Insurance Materials.

OMB Number: 1205-0222.

Affected Public: State Workforce Agencies.

Estimated Total Annual Respondents: 53.

Estimated Total Annual Responses: 301.

Estimated Total Annual Burden Hours: 75.

Total Annual Burden Cost for Respondents: There is no cost for respondents.

Portia Wu,
Assistant Secretary for Employment and Training, Labor.

[FR Doc. 2015-24571 Filed 9-25-15; 8:45 am]

BILLING CODE 4510-FW-P